NUCLEAR REGULATORY COMMISSION

[Docket No. 50-416]

Entergy Operations, Inc., System Energy Resources, Inc., South Mississippi Electric Power Association, and Entergy Mississippi, Inc., Grand Gulf Nuclear Station, Unit 1; Notice of Withdrawal of Application for Amendment to Facility Operating License

The U.S. Nuclear Regulatory Commission (the Commission) has granted the request of Entergy Operations, Inc., et al. (the licensee) to withdraw its application for proposed amendment to Facility Operating License No. NPF-29 for the Grand Gulf Nuclear Station, Unit 1, located in Claiborne County, Mississippi, dated June 27, 2005.

The proposed amendment would have revised the Facility Operating License to change Technical Specification 3.6.1.3, Required Actions A.1 and B.1, to add closed relief valves as acceptable isolation devices provided that the relief setpoint is greater than 1.5 times containment design pressure

The Commission had previously issued a Notice of Consideration of Issuance of Amendment, published in the Federal Register on August 30, 2005 (70 FR 51381). However, by letter dated May 5, 2006, the licensee withdrew the proposed change.

For further details with respect to this action, see the application for amendment dated June 27, 2005, and the licensee's letter dated May 5, 2006, which withdrew the application for license amendment. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm.html.

Persons who do not have access to ADAMS or who encounter problems in accessing the documents located in ADAMS should contact the NRC PDR Reference staff by telephone at 1-800-397-4209, or 301-415-4737 or by e-mail to pdr@nrc.gov.

Dated at Rockville, Maryland, this 12th day of May 2006.
For the Nuclear Regulatory Commission.
Bhalchandra Vaidya,
Project Manager, Plant Licensing Branch IV, Division of Operating Reactor Licensing, Office of Nuclear Reactor Regulation.

[FR Doc. E6-7573 Filed 5-17-06; 8:45 am]

BILLING CODE 7590-01-P